DEPARTMENT OF THE INTERIOR

Fish and Wildlife Service

[FWS-R5-ES-2013-N153; FXES11130500000D2-134-FF05E00000]

Endangered and Threatened Wildlife and Plants; Initiation of a 5-Year Review of Nine Northeastern Species

AGENCY: Fish and Wildlife Service, Interior.

ACTION: Notice of initiation of reviews; request for information.

SUMMARY: We, the U.S. Fish and Wildlife Service (Service), are initiating 5-year reviews under the Endangered Species Act (Act), as amended, for nine northeastern species. We will review the following endangered species: Peter's Mountain mallow, Jesup's milk-vetch, James spinymussel, sandplain gerardia, harperella, American chaffseed, and rough rabbitsfoot. We will also review the threatened northeastern beach tiger beetle and Virginia spiraea. A 5-year review is based on the best scientific and commercial data available at the time of the review. We are requesting submission of any such information that has become available since the previous 5-year review for each species.

DATES: To ensure consideration, please send your written information by October 3, 2013. However, we will continue to accept new information about any listed species at any time.

ADDRESSES: For instructions on how and where to submit information, see “Request for Information” and “Contacts” under SUPPLEMENTARY INFORMATION below.

FOR FURTHER INFORMATION CONTACT: For information regarding a particular species, contact the appropriate person or office listed in the “Contacts” table in the SUPPLEMENTARY INFORMATION section. For general information regarding this notice, contact Mary Parkin, by U.S. mail at U.S. Fish and Wildlife Service, Northeast Regional Office, 300 Westgate Center Drive, Hadley, MA 01035; by telephone at 617-417-3331; or by electronic mail at mary_parkin@fws.gov.

SUPPLEMENTARY INFORMATION:

Why do we conduct 5-year reviews?

Under the Act (16 U.S.C. 1531 et seq.), we maintain Lists of Endangered and Threatened Wildlife and Plants (which we collectively refer to as the List). Wildlife and plants on the List can be found at http://ecos.fws.gov/tess_public/pub/listedAnimals.jsp and http://ecos.fws.gov/tess_public/pub/listedPlants.jsp, respectively. Section 4(c)(2)(A) of the Act requires us to review each listed species' status at least once every 5 years. Our regulations at 50 CFR 424.21 require that we publish a notice in the Federal Register announcing those species under active review. For additional information about 5-year reviews, refer to our fact sheet at: http://www.fws.gov/endangered/what-we-do/recovery-overview.html.

What species are under review?

We are initiating 5-year status reviews of the species in the following table.

Table 1—Species Under 5-Year Review
Common name | Scientific name | Status | Where listed/ occurs | Listing date and citation
ANIMALS
James spinymussel | (Pleurobema collina) | Endangered | Entire: NC, VA, WV | July 22, 1988; 53 FR 27689.
Rough rabbitsfoot | (Quadrula cylindrica strigillata) | Endangered | Entire: TN, VA | January 10, 1997; 62 FR 1647.
Northeastern beach tiger beetle | (Cicindela dorsalis dorsalis) | Threatened | Entire: MD, MA, NJ, VA | August 7, 1990; 55 FR 32088.
PLANTS
Peter's Mountain mallow | (Iliamna corei) | Endangered | Entire: VA | May 12, 1986; 51 FR 17343.
Jesup's milk-vetch | (Astragalus robbinsii var. jesupi) | Endangered | Entire: NH, VT | June 5, 1987; 52 FR 21481.
Sandplain gerardia | (Agalinis acuta) | Endangered | Entire: CT, MD, MA, NY, RI | September 7, 1988; 53 FR 34701.
Harperella | (Ptilimnium nodosum) | Endangered | Entire: AL, AR, GA, MD, NC, SC, VA, WV | September 28, 1988; 53 FR 37978.
American chaffseed | (Schwalbea americana) | Endangered | Entire: AL, FL, GA, LA, MS, NJ, NC, SC, VA | September 29, 1992; 57 FR 44704.
Virginia spiraea | (Spiraea virginiana) | Threatened | Entire: GA, KY, NC, OH, PA, TN, VA, WV | June 15, 1990; 55 FR 24241.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table below. You may also direct questions to those contacts. Individuals who are hearing impaired or speech impaired may call the Federal Relay Service, at 800-877-8339 for TTY assistance.

Public Availability of Information Submitted

Before including your address, phone number, electronic mail address, or other personal identifying information in your submission, you should be aware that you entire submission—including your personal identifying information—may be made publicly available at any time. Although you can request that personal information be withheld from public review, we cannot guarantee that we will be able to do so. Materials received will be available for public inspection, by appointment, during normal business hours at the offices where the information is submitted.

Contacts

New information on the species covered in this notice should be submitted by mail or electronic mail to the appropriate species' contact person within the time frame provided under DATES above.

Table 2—Contacts
Species | Contact person, phone, e-mail | Contact address
James spinymussel | Kimberly Smith, 804-693-6694; e-mail kimberly_smith@fws.gov | U.S. Fish and Wildlife Service, Virginia Field Office, 6669 Short Lane, Gloucester, VA 23061.
Rough rabbitsfoot | Shane Hanlon, 276-623-1233; e-mail shane_hanlon@fws.gov | U.S. Fish and Wildlife Service, Southwest Virginia Field Office, 330 Cummings Street, Abingdon, VA 24210.
Northeastern beach tiger beetle | Mike Drummond, 804-693-6694; e-mail mike_drummond@fws.gov | U.S. Fish and Wildlife Service, Virginia Field Office, 6669 Short Lane, Gloucester, VA 23061.
Peter's Mountain mallow | Troy Andersen, 804-693-6694; e-mail troy_andersen@fws.gov | U.S. Fish and Wildlife Service, Virginia Field Office, 6669 Short Lane, Gloucester, VA 23061.
Jesup's milk-vetch | Susi von Oettingen, 603-223-2541; e-mail susi_vonoettingen@fws.gov | U.S. Fish and Wildlife Service, New England Field Office, 70 Commercial Street, Ste. 300, Concord, NH 03301.
Sandplain gerardia | Steve Sinkevich, 631-776-1401; e-mail steve_sinkevich@fws.gov | U.S. Fish and Wildlife Service, Long Island Field Office, 3 Old Barto Road, Brookhaven, NY 11719.
Harperella | Barbara Douglas, 304-636-6586; e-mail barbara_douglas@fws.gov | U.S. Fish and Wildlife Service, West Virginia Field Office, 694 Beverly Pike, Elkins, WV 26241.
American chaffseed | Jeremy Markuson, 609-646-9310; e-mail jeremy_markuson@fws.gov | U.S. Fish and Wildlife Service, New Jersey Field Office, 927 North Main Street, Bldg D, Pleasantville, NJ 08232.
Virginia spiraea | William Hester, 804-693-6694, e-mail william_hester@fws.gov | U.S. Fish and Wildlife Service, Virginia Field Office, 6669 Short Lane, Gloucester, VA 23061.

IX. Authority

We publish this document under the authority of the Endangered Species Act of 1973, as amended (16 U.S.C. 1531 et seq.).

Dated: June 25, 2013.
Wendi Weber,
Regional Director, Northeast Region, U.S. Fish and Wildlife Service.

[FR Doc. 2013-17328 Filed 8-16-13; 8:45 am]

BILLING CODE 4310-55-P